DEPARTMENT OF DEFENSE

Department of the Navy

Meetings of the Naval Research Advisory Committee

AGENCY: Department of the Navy, DoD.

ACTION: Notice of closed meetings.

SUMMARY: The Naval Research Advisory Committee (NRAC) will meet to discuss classified information from government organizations and proprietary information from commercial organizations. With the exception of participants' registration and introduction/welcoming remarks on Monday, June 18, 2007, all sessions of the meeting will be devoted to briefings, discussions and technical examination of information related to the tactical application of biometric technologies and Lightening the Combat Load of the Individual Marine. Discussions will focus on the exploitation of physical vulnerabilities and the tactical applications of known and emerging technologies. Each session will examine vulnerabilities of individuals and systems, and how the enemy is exploiting these vulnerabilities. The sessions will also include proprietary information regarding technology applications and systems under development in the private sector between competing companies. The sessions will also focus on the assessment of the emerging concepts of operations in each of these areas and evaluate appropriate options in such areas as: training, S&T funding allocation, technology monitoring, and progress assessments; and probable time frames for transformation and implementation. The sessions will also identify, review, and assess challenges with the utilization and fielding of various technology applications.

DATES: The meetings will be held on Monday, June 18, 2007, through Friday, June 22, 2007, from 8 a.m. to 5 p.m.; Monday, June 25, 2007, through Thursday, June 28, 2007, from 8 a.m. to 5 p.m. The sessions open to the public will be held on Monday, June 18, 2007, from 8 a.m. to 9:30 a.m. All other sessions will be closed to the public.

ADDRESSES: The meetings will be held at the Space and Naval Warfare Systems Center, San Diego, CA 92152.

FOR FURTHER INFORMATION CONTACT: Mr. William H. Ellis, Jr., Program Director, Naval Research Advisory Committee, 875 North Randolph Street, Arlington, VA 22203-1995, 703-696-5775.

SUPPLEMENTARY INFORMATION: This notice is provided in accordance with the provisions of the Federal Advisory Committee Act (5 U.S.C. App. 2). With the exception of participants' registration and introduction/welcoming remarks on Monday, June 18, all sessions of the meeting will be devoted to executive sessions that will include discussions and technical examination of information related to biometrics and lightening the load for the individual combat Marine. These briefings and discussions will contain proprietary information and classified information that is specifically authorized under criteria established by Executive Order to be kept Secret in the interest of national defense and are in fact properly classified pursuant to such Executive Order. The proprietary, classified and non-classified matters to be discussed are so inextricably intertwined as to preclude opening these sessions of the meeting. In accordance with 5 U.S.C. App. 2, section 10(d), the Secretary of the Navy has determined in writing that the public interest requires that these sessions of the meetings be closed to the public because they will be concerned with matters listed in 5 U.S.C. section 552b(c)(1) and (4).

Dated: May 1, 2007.
M.A. Harvison,
Lieutenant Commander, Judge Advocate General's Corps, U.S. Navy, Federal Register Liaison Officer.

[FR Doc. E7-8570 Filed 5-3-07; 8:45 am]

BILLING CODE 3810-FF-P